DEPARTMENT OF ENERGY

Supplement to the Final Environmental Impact Statement for a Geologic Repository for the Disposal of Spent Nuclear Fuel and High-Level Radioactive Waste at Yucca Mountain, Nye County, NV

AGENCY: U.S. Department of Energy.

ACTION: Notice of intent.

SUMMARY: The U.S. Department of Energy (DOE or the Department) is announcing its intent to prepare a Supplement to the “Final Environmental Impact Statement for a Geologic Repository for the Disposal of Spent Nuclear Fuel and High-Level Radioactive Waste at Yucca Mountain, Nye County, Nevada” (DOE/EIS-0250F, February 2002) (Yucca Mountain Final EIS). The Proposed Action addressed in the Yucca Mountain Final EIS is to construct, operate and monitor, and eventually close a geologic repository at Yucca Mountain in southern Nevada for the disposal of spent nuclear fuel and high-level radioactive waste.

The Yucca Mountain Final EIS considered the potential environmental impacts of a repository design for surface and subsurface facilities, a range of canister packaging scenarios and repository thermal operating modes, and plans for the construction, operation and monitoring, and eventual closure of the repository. The Yucca Mountain Final EIS also considered the environmental impacts of the transportation of spent nuclear fuel and high-level radioactive waste from commercial and DOE sites to the repository by two principal modes—mostly truck and mostly rail. In the Yucca Mountain Final EIS DOE recognized that these repository design concepts and operational plans would continue to develop during the design and engineering process.

Since publication of the Yucca Mountain Final EIS, DOE has continued to develop the repository design and associated plans. As now planned, the proposed surface and subsurface facilities would allow DOE to operate the repository following a primarily canistered approach in which most commercial spent nuclear fuel would be packaged at the commercial sites in multipurpose transport, aging and disposal canisters (TADs), and all DOE materials would be packaged in disposable canisters at the DOE sites. Waste packages would be arrayed in the repository underground to achieve what is referred to as a higher-thermal operating mode, and most spent nuclear fuel and high-level radioactive waste would arrive at the repository by rail.

To evaluate the potential environmental impacts of the current repository design and operational plans, DOE has decided to prepare a Supplement to the Yucca Mountain Final EIS ¹, consistent with the National Environmental Policy Act (NEPA) and the Nuclear Waste Policy Act, as amended (Pub. L. 97-425) (NWPA). This Supplemental Yucca Mountain EIS (DOE/EIS-0250-S1) is being prepared to assist the U.S. Nuclear Regulatory Commission (NRC) in satisfying its NEPA responsibilities pursuant to the NWPA (Section 114(f)(4)) ².

¹ Coincident with this Notice of Intent, DOE is publishing an Amended Notice of Intent to prepare a Supplemental Yucca Mountain Rail Corridor and Rail Alignment EIS (DOE/EIS-0250F-S2 and DOE/EIS-0369). That EIS will review the rail corridor analyses of the Yucca Mountain Final EIS, and update, as appropriate, and will analyze the proposed Mina corridor; it also will include detailed analyses of alternative alignments for the construction and operation of a rail line within the Mina corridor, as well as the Caliente corridor.

² Section 114(f)(4) of the NWPA provides that any environmental impact statement “prepared in connection with a repository * * * shall, to the extent practicable, be adopted by the Commission [NRC] in connection with the issuance by the Commission of a construction authorization and license for such repository. To the extent such statement is adopted by the Commission, such adoption shall be deemed to also satisfy the responsibilities of the Commission under the National Environmental Policy Act of 1969 * * *.”

DATES: The Department invites comments on the scope of the Supplemental Yucca Mountain EIS to ensure that all relevant environmental issues are addressed. Public scoping meetings are discussed below in the SUPPLEMENTARY INFORMATION section. DOE will consider all comments received during the 45-day public scoping period, which starts with publication of this Notice of Intent and ends November 27, 2006. Comments received after this date will be considered to the extent practicable.

ADDRESSES: Requests for additional information on the Supplemental Yucca Mountain EIS or on the repository program in general, should be directed to: Dr. Jane Summerson, EIS Document Manager, Regulatory Authority Office, Office of Civilian Radioactive Waste Management, U.S. Department of Energy, 1551 Hillshire Drive, M/S 010, Las Vegas, NV 89134, Telephone 1-800-967-3477. Written comments on the scope of the Supplemental Yucca Mountain EIS may be submitted to Dr. Jane Summerson at this address, or by facsimile to 1-800-967-0739, or via the Internet at http://www.ocrwm.doe.gov under the caption What's New.

FOR FURTHER INFORMATION CONTACT: For general information regarding the DOE NEPA process contact: Ms. Carol M. Borgstrom, Director, Office of NEPA Policy and Compliance, U.S. Department of Energy, 1000 Independence Ave., SW., Washington, DC 20585, Telephone 202-586-4600, or leave a message at 1-800-472-2756.

SUPPLEMENTARY INFORMATION:

Background

Section 111(a)(4) of the NWPA states that the Federal government has the: “responsibility to provide for the permanent disposal of high-level radioactive waste and such spent nuclear fuel as may be disposed of in order to protect the public health and safety and the environment.”

The NWPA directs the Secretary of Energy, if the Secretary decides to recommend approval of the Yucca Mountain site for development of a repository, to submit a final environmental impact statement with any recommendation to the President. The Department prepared the Yucca Mountain Final EIS to fulfill that requirement.

On February 14, 2002, the Secretary, in accordance with the NWPA, transmitted his recommendation (including the Yucca Mountain Final EIS) to the President for approval of the Yucca Mountain site for development of a geologic repository. The President considered the site qualified for application to the NRC for a construction authorization and recommended the site to the U.S. Congress. Subsequently, on July 23, 2002, the President signed into law (Pub. L. 107-200) a joint resolution of the U.S. House of Representatives and the U.S. Senate designating the Yucca Mountain site for development as a geologic repository for the disposal of spent nuclear fuel and high-level radioactive waste. The Department is now preparing a license application for submittal to the NRC seeking authorization to construct the repository, as required by the NWPA (Section 114(b)).

In the Yucca Mountain Final EIS, DOE considered the potential environmental impacts of a repository design for surface and subsurface facilities, a range of canister packaging scenarios and repository thermal operating modes, and plans for the construction, operation and monitoring, and eventual closure of the repository. The Yucca Mountain Final EIS also described and evaluated the transportation of spent nuclear fuel and high-level radioactive waste from commercial and DOE sites to the repository by two principal modes—mostly truck and mostly rail. DOE recognized at that time that these repository design concepts and operational plans would continue to develop during the design and engineering process.

More specifically, the Yucca Mountain Final EIS included evaluations of separate canistered and uncanistered packaging scenarios for commercial spent nuclear fuel, and a repository design comprised of three primary surface operations areas (North Portal Operations Area, South Portal Development Area, Ventilation Shaft Operations Area) in which spent nuclear fuel and high-level radioactive waste would be handled in two principal facilities (Carrier Preparation Building, Waste Handling Building). The Yucca Mountain Final EIS also evaluated a range of underground thermal operating modes (referred to as lower- and higher-temperature modes) in which heat from the waste packages would raise the temperature of the adjacent rock to a range of temperatures from below the boiling point of water to above the boiling point. Two scenarios, mostly truck and mostly rail, were analyzed for the transportation of spent nuclear fuel and high-level radioactive waste from the commercial and DOE sites to the repository.

Since publication of the Yucca Mountain Final EIS, DOE has continued to develop the repository design and associated plans. As now planned (and described in greater detail in the Proposed Action below), the proposed surface and subsurface facilities would allow DOE to operate the repository following a primarily canistered approach in which most commercial spent nuclear fuel would be packaged at the commercial sites in TADs, and all DOE materials would be packaged in disposable canisters at the DOE sites. These TADs and disposable canisters then would be transported mostly by rail ³ to the repository where they would be placed on aging (or staging) ⁴ pads prior to disposal, or inserted into waste packages and disposed of in the repository underground.

³ On April 8, 2004 (69 FR 18557), the Department issued a Record of Decision selecting, both nationally and in the State of Nevada, the mostly rail scenario analyzed in the Yucca Mountain Final EIS. This decision will ultimately require the construction of a rail line to connect the repository site at Yucca Mountain to an existing rail line in the State of Nevada.

⁴ The terminology refers to retaining commercial spent nuclear fuel on the surface at the repository to meet waste package thermal limits (aging), or to provide a surge capacity to maintain flexibility in waste handling operations (staging).

At the repository site, spent nuclear fuel and high-level radioactive waste would now be handled in up to six principal facilities located within three primary surface operations areas. A fourth operations area would be developed to support excavation of the underground repository. A higher-thermal (temperature) operating mode would be employed.

Based on the current planning, the Department does not believe that any of the developments to the repository design or operational plans would have a significant impact on the environmental effects considered in the Yucca Mountain Final EIS. Nevertheless, to assist NRC in satisfying its NEPA responsibilities pursuant to the NWPA (Section 114(f)(4)), DOE has decided to prepare this Supplemental EIS.

Proposed Action

Under the Proposed Action, DOE would construct, operate and monitor, and eventually close a geologic repository at Yucca Mountain for the disposal of up to 70,000 metric tons of heavy metal (MTHM) of commercial and DOE-owned spent nuclear fuel and high-level radioactive waste.⁵ DOE would dispose of these materials in the repository using the inherent, natural geologic features of the mountain and engineered barriers to ensure long-term isolation of the spent nuclear fuel and high-level radioactive waste from the human environment. These materials would be emplaced underground at least 200 meters (660 feet) below the surface and at least 160 meters (530 feet) above the water table. The NRC, through its licensing process, would regulate repository construction, operation and monitoring, and closure.

⁵ The 70,000 MTHM includes 63,000 MTHM of commercial spent nuclear fuel, about 2,333 MTHM of DOE fuel (includes about 65 MTHM of naval fuel), and about 4,667 MTHM of DOE high-level radioactive waste.

Under the Proposed Action, most spent nuclear fuel and high-level radioactive waste would be shipped from 72 commercial and 4 DOE sites ⁶ to the repository in NRC-certified transportation casks placed on trains dedicated only to these shipments. Some shipments, however, would arrive at the repository by truck.

⁶ In 2002, fifty-four additional sites, primarily domestic research reactors, were expected to ship spent nuclear fuel to two DOE sites prior to disposal at the repository (see Records of Decision June 1, 1995 at 60 FR 28680, and March 8, 1996 at 61 FR 9441). Also, the Yucca Mountain Final EIS analyzed fuel shipments from 5 DOE sites, including Fort St. Vrain, to the repository. Presently, it is anticipated that fuel from Fort St. Vrain will be shipped to Idaho National Laboratory prior to being shipped to the repository.

Under the Proposed Action, all DOE spent nuclear fuel and high-level radioactive waste would be placed in disposable canisters at the DOE sites, and as much as 90 percent of the commercial spent nuclear fuel would be placed in TADs at the commercial sites prior to shipment. Upon arrival at the repository, both types of canisters (DOE disposable and TADs) would be placed into corrosion-resistant overpacks (waste packages) prior to emplacement in the repository underground.

The remaining commercial spent nuclear fuel (about 10 percent) would be transported to the repository in dual-purpose canisters (canisters suitable for storage and transportation), or would be uncanistered. At the repository, uncanistered spent nuclear fuel would be placed directly into TADs and then waste packages for disposal. Commercial spent nuclear fuel arriving in dual-purpose canisters would first be removed from the canisters, placed into TADs and then into waste packages for disposal.

Handling of spent nuclear fuel and high-level radioactive waste would take place in the geologic repository operations area, which includes the North Portal area, the South Portal development area, a North Construction Portal development area, and the surface shaft areas. The surface portion of the geologic repository operations area also would include the facilities necessary to receive, package, and support emplacement of spent nuclear fuel and high-level radioactive waste in the repository. Waste transfer operations would be conducted inside reinforced concrete and metal frame buildings designed and constructed to withstand earthquakes and other phenomena. Workers and the public would be protected from radiation by shielded transfer equipment and walls, exhaust filtering systems, and the use of remotely controlled equipment to remove the waste forms from the transportation casks for insertion into waste packages.

The primary surface waste handling facilities include a wet handling facility, a receipt facility, and three separate canister receipt and closure facilities. DOE also is considering an initial handling facility. These facilities would allow the various types of materials received at the repository to be prepared for disposal.

The wet handling facility would receive commercial spent nuclear fuel as bare fuel assemblies (uncanistered) or in dual-purpose canisters, either in truck or rail transportation casks. Commercial spent nuclear fuel would be transferred underwater from the transportation casks or dual-purpose canisters into TADs. The wet handling facility would include provisions for opening transportation casks and dual-purpose canisters, and for drying and closing the loaded TADs. Loaded TADs either would be placed into overpacks for placement on aging/staging pads, or would be transferred to the canister receipt and closure facilities for loading into waste packages for disposal.

The receipt facility would receive TADs and dual-purpose canisters in rail transportation casks. The TADs and dual-purpose canisters would be transferred (dry) from the transportation casks either to overpacks for placement on the aging/staging pads, or to shielded transfer casks for transfer to the canister receipt and closure facilities. Shielded transfer casks also would transfer dual-purpose canisters to the wet handling facility, as necessary.

The canister receipt and closure facilities would receive DOE disposable canisters and TADs in rail transportation casks, shielded transfer casks and aging/staging overpacks. These facilities also could receive truck casks. There, TADs and DOE disposable canisters would be placed into waste packages for disposal.

If constructed, the initial handling facility would receive DOE high-level radioactive waste canisters and naval spent nuclear fuel canisters in truck and rail transportation casks. These canisters would be removed from the transportation casks and transferred to waste packages for disposal.

Waste packages containing TADs, naval nuclear spent fuel, or DOE disposable canisters would be placed on pallets and loaded onto shielded waste package transporters. The shielded waste package transporters would transfer the waste packages to the underground for emplacement in dedicated tunnels (drifts). In these drifts, waste packages would be aligned end-to-end. Emplacement drifts would be excavated in a series of panels, phased to match the anticipated throughput rate of the surface waste handling facilities.

The repository also would have other underground excavations. These would include, for example, main drifts to provide access to the surface and the emplacement drifts, and exhaust mains to exhaust ventilation air from the emplacement drifts.

Under the Proposed Action, thermal output of the waste packages would heat the adjacent rock in excess of the boiling temperature of water (i.e., higher-thermal operating mode). In this higher-thermal mode, the repository emplacement drifts would remain open and ventilated for a nominal period of 50 years after emplacement of the spent nuclear fuel and high-level radioactive waste; ventilation would remove much of the heat and humidity from the emplacement drifts during this period. The higher thermal operating mode would be achieved by a combination of closely spaced waste packages, a nominal ventilation period of 50 years, and managing waste package thermal output by mixing lower heat output waste packages with higher heat output packages in the drifts (for example).

After the repository is closed and sealed, the rock around the emplacement drifts would dry, minimizing the amount of water that might contact the waste packages for hundreds of years. However, a substantial portion of the rock between the drifts would remain at temperatures below boiling, and this would promote drainage of water through the central portions of the rock, rather than into the emplacement drifts.

The surface and subsurface facilities and associated infrastructure,⁷ such as the on-site road and water distribution networks and emergency response facilities, would be constructed in phases to accommodate the expected receipt rates of spent nuclear fuel and high-level radioactive waste. Emplacement (disposal) operations, which would last up to 50 years, would be followed by a preclosure monitoring period of 50 years. Towards the end of the preclosure monitoring period, titanium drip shields would be installed over the waste packages. The drip shields would divert moisture that might drip from the drift walls, as well as condensed water vapor around the waste packages, to the drift floor thereby increasing the life expectancy of the waste packages. Drip shields also would protect the waste packages from rock falls.

⁷ DOE published a “Draft Environmental Assessment for the Proposed Infrastructure Improvements for the Yucca Mountain Project, Nevada” on July 6, 2006 (71 FR 38391). DOE proposes to repair, replace, or improve certain infrastructure at the site to enhance safety and to safely continue operations, scientific testing, and maintenance until such time as NRC decides whether to authorize construction of a repository. To the extent that activities proposed by DOE in its environmental assessment, such as construction of a new access road or new power lines, may not be undertaken in the timeframe considered in the environmental assessment, they will be considered in this Supplemental Yucca Mountain EIS (DOE/EIS-0250F-S1).

Under the Proposed Action, emplaced waste packages could be retrieved at any time prior to 100 years after the start of emplacement. Following waste emplacement, surface facilities would be decommissioned and after the monitoring period the repository would be closed. Closure would involve sealing the shafts, ramps, exploratory boreholes and other repository openings. The main drifts would be filled with crushed rock and surface caps would be installed to discourage human intrusion. A network of monuments and markers would be erected around the site surface to warn future generations of the presence and nature of the buried radioactive waste.

No Action Alternative

Under the No Action Alternative, DOE would terminate activities at Yucca Mountain and undertake site reclamation to mitigate any significant adverse environmental impacts. Commercial nuclear power utilities and DOE would continue to manage spent nuclear fuel and high-level radioactive waste at sites throughout the United States. The No Action Alternative was analyzed in the Yucca Mountain Final EIS as a basis for comparison with the Proposed Action.

Since completion of the Yucca Mountain Final EIS, DOE has not identified any relevant changes in circumstances or information bearing on environmental concerns regarding the No Action Alternative. For this reason, DOE anticipates that the Supplemental Yucca Mountain EIS will incorporate by reference the information describing and analyzing the No Action Alternative presented in the Yucca Mountain Final EIS (pursuant to Council on Environmental Quality (CEQ) regulations at 40 Code of Federal Regulations (CFR) 1502.21).

Potential Environmental Issues and Resources To Be Examined

The CEQ regulations direct Federal agencies preparing an EIS to focus on significant environmental issues (40 CFR 1502.1) and discuss impacts in proportion to their significance (40 CFR 1502.2). Accordingly, the Supplemental Yucca Mountain EIS will analyze issues and impacts with the amount of detail commensurate with their importance. Under these guidelines, aspects of the Proposed Action with clearly small environmental impacts usually would require less depth and breadth of analysis. To the degree that the Proposed Action would affect public health or safety, however, the potential impacts generally are a matter of public interest, regardless of their significance. Therefore, DOE plans to pay particular attention to worker and public health and safety associated with the handling and disposal, and transportation of spent nuclear fuel and high-level radioactive waste, even where such impacts would not be significant.

To facilitate the scoping process, DOE has identified a preliminary list of issues and environmental resources that it may consider in the Supplemental Yucca Mountain EIS. The list is not intended to be all-inclusive, but should be used as a starting point for public input on the scope of the Supplemental Yucca Mountain EIS.

• Radiological releases. The potential impacts (i.e., latent cancer fatalities) to the public and workers from potential radiological releases during routine loading of canisters and transportation casks at the commercial sites, and from handling and disposal operations at the repository.

• Worker safety and health. Potential health and safety impacts (i.e., injuries and fatalities) to workers during handling and disposal operations at the commercial and DOE sites and the repository.

• Transportation. The potential radiological and non-radiological impacts (i.e., traffic injuries and fatalities) to the public and workers associated with the shipment of materials to the repository under the mostly rail scenario.

• Accidents. The potential radiological impacts to workers and the public from reasonably foreseeable accidents during loading of canisters at the sites, transportation and repository operations, including any accidents with low probability but high potential consequences.

• Sabotage. The potential radiological impacts to workers and the public from sabotage of transportation and repository operations.

• Waste isolation. Potential radiological and non-radiological impacts (e.g., chemically toxic materials) associated with the long-term performance of the repository.

• Socioeconomic conditions. Potential local regional socioeconomic impacts to the surrounding communities from construction, operation and closure of the repository.

• Water and air resources. Potential impacts to air resources, and water quality and use.

• Cultural resources. Potential impacts to archaeological and historic resources and American Indian issues of concern.

• Biological resources. Potential impacts to plants, animals and their habitats, including impacts to endangered and threatened species.

• Cumulative impacts from the Proposed Action and other past, present and reasonably foreseeable future actions.

• Environmental justice. Potential for disproportionately high and adverse impacts on minority or low-income populations.

Schedule

The DOE intends to issue the Draft Supplemental Yucca Mountain EIS in 2007, at which time its availability will be announced in the Federal Register and in media in Nevada. A public comment period will start upon publication of the Environmental Protection Agency's Notice of Availability in the Federal Register. DOE will hold public hearings during the comment period. The Department will consider and respond to comments received on the Draft Supplemental Yucca Mountain EIS in preparing the Final Supplemental Yucca Mountain EIS.

Other Agency Involvement

The Department intends to consult with Federal agencies, such as the U.S. Army Corps of Engineers, U.S. Bureau of Land Management, U.S. Air Force, and the U.S. Department of the Navy, and with state agencies, such as the Nevada Department of Transportation and the Nevada Division of Environmental Protection, during preparation of the Supplemental Yucca Mountain EIS.

Public Scoping Meetings

DOE will hold public scoping meetings on the Supplemental Yucca Mountain EIS. The meetings will be held at the following locations and times:

• Washington, District of Columbia, L'Enfant Plaza Hotel, 480 L'Enfant Plaza, SW., October 30 from 4-7 p.m.

• Amargosa Valley, Nevada. Longstreet Hotel Casino, Nevada State Highway 373, November 1 from 4-7 p.m.⁸

⁸ DOE will hold a joint public scoping meeting on the Supplemental Yucca Mountain Rail Corridor and Rail Alignment EIS (DOE/EIS-0250F-S2 and DOE/EIS-0369) and on the Supplemental Yucca Mountain EIS (DOE/EIS-0250F-S1) in Amargosa Valley, Longstreet Hotel Casino, Nevada State Highway 373, November 1 from 4-7 pm. Additional public scoping meetings on the Supplemental Yucca Mountain Rail Corridor and Rail Alignment EIS will be held in Caliente, Caliente Youth Center, U.S. 93 North, November 8 from 6-8 pm; Goldfield, Goldfield School Gymnasium, Hall and Euclid, November 13 from 4-7 pm; Hawthorne, Hawthorne Convention Center, 932 E. Street, November 14 from 4-7 pm; and Fallon, Fallon Convention Center, 100 Campus Way, November 15, from 4-7 pm.

• Las Vegas, Nevada. Cashman Center, 850 North Las Vegas Blvd., November 2 from 4-7 p.m.

The public scoping meetings will be an open meeting format without a formal presentation by DOE. Members of the public are invited to attend the meetings at their convenience any time during meeting hours and submit their comments in writing at the meeting, or in person to a court reporter who will be available throughout the meeting. This open meeting format increases the opportunity for public comment and provides for one-on-one discussions with DOE representatives involved with the Supplemental Yucca Mountain EIS and the repository program.

The public scoping meetings will be held during the public scoping comment period. The comment period begins with publication of this Notice of Intent in the Federal Register and closes November 27, 2006. Comments received after this date will be considered to the extent practicable. Written comments may be provided in writing, by facsimile, or via the Internet to Dr. Jane Summerson, EIS Document Manager (see ADDRESSES above).

Public Reading Rooms

Documents referenced in this Notice of Intent and related information are available at the following locations: Beatty Yucca Mountain Information Center, 100 North E. Avenue, Beatty, NV 89003, (775) 553-2130; Esmeralda County Yucca Mountain Oversight Office, 274 E. Crook Avenue, Goldfield, NV 89013, (775) 485-3419; Las Vegas Yucca Mountain Information Center, 4101-B Meadows Lane, Las Vegas, NV 89107, (702) 295-1312; Lincoln County Nuclear Waste Project Office, 100 Depot Avenue, Caliente, NV 89008, (775) 726-3511; Nye County Department of Natural Resources and Federal Facilities, 1210 E. Basin Road, Suite #6, Pahrump, NV 89060 (775) 727-7727; Pahrump Yucca Mountain Information Center, 2341 Postal Drive, Pahrump, NV 89048, (775) 571-5817; University of Nevada, Reno, The University of Nevada Libraries, Business and Government Information Center, M/S 322, 1664 N. Virginia Street, Reno, NV 89557, (775) 784-6500, Ext. 309; and the U.S. Department of Energy Headquarters Office Public Reading Room, 1000 Independence Avenue, SW., Room 1E-190 (ME-74) FORS, Washington, DC, 20585, 202-586-3142.

Issued in Washington, DC, October 10, 2006.
David R. Hill,
General Counsel.

[FR Doc. 06-8676 Filed 10-10-06; 4:15 pm]

BILLING CODE 6450-01-P